DEPARTMENT OF COMMERCE

International Trade Administration

[A-570-033]

Large Residential Washers From the People's Republic of China: Final Results of Expedited Sunset Review of Antidumping Duty Order

AGENCY: Enforcement and Compliance, International Trade Administration, Department of Commerce.

SUMMARY: As a result of this expedited sunset review, the Department of Commerce (Commerce) finds that revocation of the antidumping duty (AD) order on large residential washers (LRWs) from the People's Republic of China (China) would be likely to lead to a continuation or recurrence of dumping at the levels identified in the “Final Results of Sunset Review” section of this notice.

DATES: Applicable May 6, 2022.

FOR FURTHER INFORMATION CONTACT: Max Goldman or Brian Smith, AD/CVD Operations, Office VIII, Enforcement and Compliance, International Trade Administration, U.S. Department of Commerce, 1401 Constitution Avenue NW, Washington, DC 20230; telephone: (202) 482-3896 or (202) 482-1766, respectively.

SUPPLEMENTARY INFORMATION:

Background

On February 6, 2017, Commerce published the AD order on LRWs from China in the Federal Register.¹ On January 3, 2022, Commerce published the notice of initiation of the first sunset review of the Order, pursuant to section 751(c) of the Tariff Act of 1930, as amended (the Act).² On January 18, 2022, Commerce received a timely and complete notice of intent to participate in this sunset review from a domestic interested party, Whirlpool Corporation (Whirlpool),³ within the deadline specified in 19 CFR 351.218(d)(1)(i). Whirlpool claimed interested party status within the meaning of section 771(9)(C) of the Act as a producer in the United States of the domestic like product.⁴

¹ See Large Residential Washers from the People's Republic of China: Amended Final Affirmative Antidumping Duty Determination and Antidumping Duty Order, 82 FR 9371 (February 6, 2017) (Order).

² See Initiation of Five-Year (Sunset) Reviews, 87 FR 76 (January 3, 2022).

³ See Whirlpool Letter, “Five-Year (“Sunset”) Review of Antidumping Duty Order on Large Residential Washers from China: Notice of Intent to Participate,” dated January 18, 2022.

⁴ Id.

On February 2, 2022, Whirlpool filed a timely and adequate substantive response, within the deadline specified in 19 CFR 351.218(d)(3)(i).⁵ Commerce did not receive substantive responses from any respondent interested party with respect to the Order covered by this sunset review. As a result, pursuant to section 751(c)(3)(B) of the Act and 19 CFR 351.218(e)(1)(ii)(C)(2), Commerce conducted an expedited (120-day) sunset review of the Order.

⁵ See Whirlpool Letter, “Five-Year (“Sunset”) Review of Antidumping Duty Order on Large Residential Washers from China: Substantive Response,” dated February 2, 2022 (Substantive Response).

Scope of the Order

The merchandise covered by the Order is LRWs from China. For a complete description of the scope of the Order, see the Issues and Decision Memorandum.⁶

⁶ See Memorandum, “Issues and Decision Memorandum for the Final Results of the Expedited Sunset Review of the Antidumping Duty Order on Large Residential Washers from the People's Republic of China,” dated concurrently with, and hereby adopted by, this notice (Issues and Decision Memorandum).

Analysis of Comments Received

A complete discussion of all issues raised in this sunset review is provided in the Issues and Decision Memorandum. A list of the topics discussed in the Issues and Decision Memorandum is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx

Final Results of Sunset Review

Pursuant to sections 751(c)(1), 752(c)(1) and (3) of the Act, Commerce determines that revocation of the Order would be likely to lead to a continuation or recurrence of dumping, and that the magnitude of the dumping margins likely to prevail is up to 57.37 percent.⁷

⁷ See Order, 82 FR at 9373.

Notification Regarding Administrative Protective Order

This notice also serves as the only reminder to parties subject to administrative protective order (APO) of their responsibility concerning the return or destruction of proprietary information disclosed under APO in accordance with 19 CFR 351.305. Timely notification of the return or destruction of APO materials, or conversion to judicial protective order, is hereby requested. Failure to comply with the regulations and terms of an APO is a violation which is subject to sanction.

Notification to Interested Parties

We are issuing and publishing these final results and notice in accordance with sections 751(c), 752(c), and 777(i)(1) of the Act, and 19 CFR 351.218(e)(1)(ii)(C)(2) and 19 CFR 351.221(c)(5)(ii).

Dated: May 2, 2022.
Lisa W. Wang,
Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Dumping Margins Likely to Prevail

VII. Final Results of Sunset Review

VIII. Recommendation

[FR Doc. 2022-09812 Filed 5-5-22; 8:45 am]

BILLING CODE 3510-DS-P